ENVIRONMENTAL PROTECTION AGENCY

[OPP-00648A; FRL-6591-7]

Pesticides; List of Pests of Significant Public Health Importance; Extension of Comment Period

AGENCY: Environmental Protection Agency (EPA).

ACTION: Notice; extension of comment period.

SUMMARY: On March 29, 2000, EPA issued a notice of availability for the draft Pesticide Registration Notice paper titled: “List of Pests of Significant Public Health Importance.” The comment period would have ended May 30, 2000. In order to solicit additional public comment, EPA has decided to extend the comment period to July 30, 2000.

DATES: Comments, identified by docket control number OPP-00648, must be received by EPA on or before July 30, 2000.

ADDRESSES: Comments may be submitted by mail, electronically, or in person. Please follow the detailed instructions for each method as provided in Unit I.C. of the SUPPLEMENTARY INFORMATION. To ensure proper receipt by EPA, it is imperative that you identify docket control number OPP-00648 in the subject line on the first page of your response.

FOR FURTHER INFORMATION CONTACT: Kevin Sweeney, Registration Division (7505C), Office of Pesticide Programs, Environmental Protection Agency, 1200 Pennsylvania Ave., NW., Washington, DC 20460; telephone number: (703) 305-5063; fax number: (703) 305-6596; e-mail address: sweeney.kevin@epa.gov.

SUPPLEMENTARY INFORMATION:

I. General Information

A. Does This Action Apply to Me?

This action is directed to the public in general, but may be of particular interest to manufacturers of pesticides intended for use against public health pests, and those responsible for public health programs involved in the control or regulation of public health pests. Since other entities may also be interested, the Agency has not attempted to describe all the specific entities that may be affected by the notice being made available today. If you have any questions regarding the applicability of the notice to a particular entity, consult the person listed in the “FOR FURTHER INFORMATION CONTACT” section.

B. How Can I Get Additional Information, Including Copies of This Document or Other Related Documents?

1. Electronically. You may obtain electronic copies of this document and the draft Pesticide Registration Notice from the EPA Home Page at the following web address: http://www.epa.gov/opppmsd1/PR—Notices/index.html#2000. You can also go directly to the Federal Register listings: http://www.epa.gov/fedrgstr/.

2. Fax on demand. You may request a faxed copy of the draft science policy paper, as well as supporting information, by using a faxphone to call (202) 401-0527. Select item 6125 for the paper titled “List of Pests of Significant Public Health Importance.” You may also follow the automated menu.

3. In person. The official record for this notice, as well as the public version, has been established under docket control number OPP-00648, (including comments and data submitted electronically as described below). A public version of this record, including printed, paper versions of any electronic comments, which does not include any information claimed as CBI, is available for inspection from the Public Information and Records Integrity Branch (PIRIB), Rm. 119, Crystal Mall #2, 1921 Jefferson Davis Highway, Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number OPP-00648 in the subject line on the first page of your response.

1. By mail. Submit your comments to: Public Information and Records Integrity Branch (PIRIB), Information Resources and Services Division (7502C), Office of Pesticide Programs (OPP), Environmental Protection Agency, 1200 Pennsylvania Avenue., NW., Washington, DC 20460.

2. In person or by courier. Deliver your comments to: Public Information and Records Integrity Branch (PIRIB), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: “opp-docket@epa.gov,” or mail your computer disk to the address identified above. Do not submit any information electronically that you consider to be CBI. Electronic comments must be submitted as an ASCII file avoiding the use of special characters and any form of encryption. Comments and data will also be accepted on standard computer disks in WordPerfect 6.1/8.0 or ASCII file format. All comments in electronic form must be identified by the docket control number OPP-00648. Electronic comments may also be filed online at many Federal Depository Libraries.

D. How Should I Handle CBI That I Want To Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice.

II. What Action Is EPA Taking?

The Agency has issued the draft Pesticide Registration Notice titled “List of Pests of Significant Public Health Importance” and solicited comments on it. The background on this document can be found in the previous Federal Register notice published on March 29, 2000 (65 FR 16615) (FRL-6498-2). Due to a need to gain additional public comment, EPA has decided to extend the comment period to July 30, 2000.

List of Subjects

Environmental protection, Public health pests, Public health pesticides.

Dated: June 1, 2000.
Marcia E. Mulkey,
Director, Office of Pesticide Programs.

[FR Doc. 00-14498 Filed 6-7-00; 8:45 am]

BILLING CODE 6560-50-F